DEPARTMENT OF THE INTERIOR

Bureau of Indian Affairs

[156A2100DD/AAKC001030/A0A501010.999900 253G]

Proclaiming Certain Lands as Reservation for the Cowlitz Indian Tribe

AGENCY: Bureau of Indian Affairs, Interior.

ACTION: Notice of reservation proclamation.

SUMMARY: This notice informs the public that through the issuance of the Record of Decision on April 22, 2013 announcing the decision to acquire the subject property in trust, the Assistant Secretary—Indian Affairs proclaimed such subject property as the initial reservation of the Cowlitz Indian Tribe of Washington on November 6, 2015. The subject property was accepted by the United States in trust for the Tribe on March 9, 2015. Now that the subject property is held in trust by the United States for the Tribe, the Department is implementing its 2013 decision to proclaim the subject property as the initial reservation of the Tribe.

FOR FURTHER INFORMATION CONTACT: Sharlene Round Face, Bureau of Indian Affairs, Division of Real Estate Services, 1849 C Street NW., MS-4642-MIB, Washington, DC 20240, telephone (202) 208-3615.

SUPPLEMENTARY INFORMATION: This notice is published in the exercise of authority delegated by the Secretary of the Interior to the Assistant Secretary—Indian Affairs by part 209 of the Departmental Manual.

A proclamation was issued according to the Act of June 18, 1934 (48 Stat. 984; 25 U.S.C. 467) for the land described below. The land was proclaimed to be the Cowlitz Indian Reservation of the Cowlitz Indian Tribe, County of Clark and State of Washington.

Cowlitz Indian Reservation

Legal description containing 156.401 acres, more or less ¹

¹ Prior to the transfer of the subject property into trust, the Department reviewed title evidence and the legal descriptions for the parcels comprising the subject property. At the time of the April 22, 2013 Record of Decision, these parcels were separately described in County records. Since that time, some of these parcels were consolidated in County records due to the parcels' common ownership. Accordingly, the legal description and estimated acreage total have been updated to reflect this consolidation in the title record and the final survey.

PARCEL I—BEGINNING at the intersection of the West line of Primary State Highway No. 1 and the East line of the Southeast quarter of Section 5, Township 4 North, Range 1 East of the Willamette Meridian, Clark County, Washington; thence Northerly along said West line of Primary State Highway No. 1 a distance of 1307.5 feet to the Point of Beginning of this description; thence West 108.5 feet to an angle point thereon; thence Northerly along the fence 880.5 feet to the center line of a creek; thence Northerly along said creek 443 feet to the West line of Primary State Highway No. 1; thence Southerly along said West line of Highway to the Point of Beginning.

EXCEPT that portion conveyed to the State of Washington by Auditor's File Nos. G 450664 and G 147358.

PARCEL II—That portion of the Northeast quarter of the Northeast quarter of Section 8, and the West half of the Northwest quarter of Section 9, Township 4 North, Range 1 East of the Willamette Meridian, Clark County, Washington, described as follows:

COMMENCING at a railroad spike marking the North quarter corner of Section 8, as shown in Book 27 of Surveys, page 134, records of the Clark County Auditor; thence South 88°10′18″ East along the North line of the Northeast quarter of Section 8 for a distance of 1843.02 feet to the Point of Beginning; thence East to Highway Engineer's Station DB 9+50 on the DB line of SR-5 as shown on the Washington State Department of Highways Right of Way Plan “Ridgefield Junction to Woodland” Sheet 5 of 12 sheets dated August 10, 1965; thence South 01°49′42″ West 20.00 feet; thence South 78°34′39″ East 90.00 feet to a point 35 feet right of HES DB 10+38.74 (R/W Plan); thence South 34°20′13″ East 451.85 feet to a point 65 feet left of HES Co. Rd. No. 25 44+81.63 PT (R/W Plan); thence South 16°33′29″ East, 386.57 feet to a point 50 feet left of HES Co. Rd. No. 25 40+50 (R/W Plan); thence South 88°22′31″ East 50.00 feet to HES Co. Rd. No. 25 40+50 said point being on the section line between Sections 8 and 9; thence South 88°22′31″ East 50.00 feet; thence North 01°37′29″ East parallel with the West line of the Northwest quarter of Section 9 for a distance of 100.00 feet; thence South 80°57′04″ East, 42.57 feet to a point 160 feet left of the SR-5 “L” Line (R/W Plan); thence South 16°24′49″ East parallel with and 160 feet from, when measured perpendicular to the SR-5 “L” Line (R/W Plan), 586.32 feet to HES L 535+50 (R/W Plan); thence South 27°43′24″ East 101.98 feet to a point 140 feet left of HES L 534+50 (R/W Plan); thence South 16°24′49″ East parallel with and 140 feet from, when measured perpendicular to the SR-5 “L” Line (R/W Plan), 450.00 feet to a point 140.00 feet left of HES L 530+00 (R/W Plan); thence South 15°35′42″ East, 253.51 feet to the South line of the North half of the Southwest quarter of the Northwest quarter of Section 9; thence North 88°31′16″ West along said South line 537.76 feet to the West line of said Northwest quarter; thence North 01°37′29″ East along said West line 858.79 feet; thence North 88°07′39″ West 435.00 feet; thence South 01°37′29″ West 200.00 feet to the South line of the North half of the Northeast quarter of Section 8; thence North 88°07′39″ West along said South line 365.31 feet; thence North 01°29′02″ East parallel with the West line of said Northeast quarter 1316.97 feet to the Point of Beginning.

EXCEPT the right of way of NW 31st Avenue and NW 319th Street. Also known as Parcels II, III, VII and VIII of the Olson Survey recorded in Book 56, Page 193.

PARCEL IV—All that part of the Southeast quarter of Section 5, Township 4 North, Range 1 East of the Willamette Meridian, Clark County, Washington, lying West of Primary State Road No. 1 (Pacific Highway).

EXCEPT the Henry Ungemach tract recorded in Volume 76 of Deeds, page 33, records of Clark County, Washington, described as follows:

BEGINNING at a point 19.91 chains North of the Southwest corner of said Southeast quarter; thence East 13.48 chains to creek; thence Northerly along creek to North line of said Southeast quarter at a point 6.66 chains West of the Northeast corner thereof; thence West to Northwest corner of said Southeast quarter; thence South 19.91 chains to the Point of Beginning.

ALSO EXCEPT the John F. Anderson tract as conveyed by deed recorded under Auditor's File No. F 38759, records of Clark County, Washington, described as follows:

BEGINNING at the Northwest corner of the Southwest quarter of the Southeast quarter of Section 5, Township 4 North, Range 1 East of the Willamette Meridian, Clark County, Washington; and running thence East 514 feet; thence Southerly 340 feet; thence Northwesterly 487 feet to a point 196 feet due South of the Point of Beginning; thence North to the Point of Beginning.

ALSO EXCEPT that tract described as follows:

BEGINNING at a point 26 rods and 9 feet West of the Southeast corner of Section 5, Township 4 North, Range 1 East of the Willamette Meridian, Clark County, Washington; and running thence West 20 rods to County Road; thence North 182 feet; thence East 20 rods; thence South 182 feet to the Point of Beginning.

ALSO EXCEPT a certain reserved tract described as follows:

BEGINNING at the intersection of the West line of Primary State Highway No. 1 (Pacific Highway) and the East line of the Southeast quarter of said Section 5, Township 4 North, Range 1 East of the Willamette Meridian, Clark County, Washington; thence Northerly along said West line of Primary State Highway No. 1, a distance of 1307.5 feet to the True Point of Beginning of this description; thence West 108.5 feet to an angle point therein; thence Northerly along fence 880.5 feet to center line of creek; thence Northeasterly along said creek 443 feet, more or less, to the West line of Primary State Highway No. 1; thence Southerly along said West line of highway to the True Point of Beginning.

ALSO EXCEPT that portion thereof lying within Primary State Highway No. 1 (SR-5) as conveyed to the State of Washington by deed recorded under Auditor's File Nos. G 458085, G 143553 and D 94522.

ALSO EXCEPT the right of way of NW 319th Street and Primary State Highway No. 1.

PARCEL V—That portion of the Northwest quarter of the Northeast quarter of Section 8, Township 4 North, Range 1 East of the Willamette Meridian, Clark County, Washington, described as follows:

BEGINNING at a railroad spike marking the North quarter corner of Section 8 as shown in Book 27 of Surveys, page 134, records of the Clark County Auditor; thence South 88°10′18″ East along the North line of the Northwest quarter of the Northeast quarter of Section 8 for a distance of 921.75 feet; thence South 01°29′02″ West parallel with the West line of said Northwest quarter, 1316.26 feet to the South line thereof; thence North 88°07′39″ West along said South line, 921.76 feet to the Southwest corner of said Northwest quarter; thence North 01°29′02″ East along the West line of said Northwest quarter, 1315.55 feet to the Point of Beginning.

EXCEPT the right of way of NW 319th Street and NW 41st Avenue.

PARCEL VI—That portion of the North half of the Northeast quarter of Section 8, Township 4 North, Range 1 East of the Willamette Meridian, Clark County, Washington, described as follows:

BEGINNING at a railroad spike marking the North quarter corner of Section 8 as shown in Book 27 of Surveys, page 134, records of the Clark County Auditor; thence South 88°10′18″ East along the North line of the Northeast quarter of Section 8 for a distance of 921.75 feet to the Point of Beginning; thence continuing along said North line, South 88°10′18″ East 921.26 feet; thence South 01°29′02″ West parallel with the West line of said Northeast quarter, 1316.97 feet to the South line of the North half of said Northeast quarter; thence North 88°07′39″ West along said South line, 921.26 feet; thence North 01°29′02″ East, 1316.26 feet to the Point of Beginning.

EXCEPT the right of way of NW 319th Street.

The above-described lands contain a total of 156.401 acres, more or less, which are subject to all valid rights, reservations, rights-of-way, and easements of record.

This proclamation does not affect title to the lands described above, nor does it affect any valid existing easements for public roads, highways, public utilities, railroads, and pipelines, or any other valid easements of rights-of-way or reservations of record.

Dated: November 6, 2015.
Kevin Washburn,
Assistant Secretary—Indian Affairs.

[FR Doc. 2015-28805 Filed 11-12-15; 8:45 am]

BILLING CODE 4337-15-P